DEPARTMENT OF HEALTH AND HUMAN SERVICES

Centers for Disease Control and Prevention

[CDC-2015-0021; Docket Number NIOSH-153-C]

Issuance of Final Guidance Publications

AGENCY: National Institute for Occupational Safety and Health (NIOSH) of the Centers for Disease Control and Prevention (CDC), Department of Health and Human Services (HHS).

ACTION: Notice of issuance of final guidance publications.

SUMMARY: NIOSH announces the availability of the following final 5 Skin Notation Profiles: Acrylic acid [CAS No. 79-01-7], Dichlorvos [CAS No. 62-73-7], Morpholine [CAS No. 110-91-8], Ethyl p-nitrophenyl phenylphosphorothioate (EPN) [CAS No. 2104-64-5], Dioxathion [CAS No. 78-34-2].

DATES: The final Skin Notation Profiles documents were published on April 10, 2017.

ADDRESSES: These documents may be obtained at the following link: http://www.cdc.gov/niosh/topics/skin/skin-notation_profiles.html.

FOR FURTHER INFORMATION CONTACT: Naomi Hudson, Dr. P.H., NIOSH, Education and Information Division (EID), Robert A. Taft Laboratories, 1090 Tusculum Ave. MS-C32, Cincinnati, OH 45226, email: iuz8@cdc.gov.

SUPPLEMENTARY INFORMATION: On May 1, 2015, NIOSH published a request for public review in the Federal Register [80 FR 24932] on skin notation profiles and technical documents. All comments received were reviewed and accepted where appropriate.

Dated: April 27, 2017.
Frank Hearl,
Chief of Staff, National Institute for Occupational Safety and Health, Centers for Disease Control and Prevention.

[FR Doc. 2017-08887 Filed 5-2-17; 8:45 am]

BILLING CODE 4163-19-P